DEPARTMENT OF HOUSING AND URBAN DEVELOPMENT

[Docket No. FR-4406-FA-02]

Announcement of Funding Awards; Community Development Block Grant Program for Indian Tribes and Alaska Native Villages, Fiscal Year 1999

AGENCY: Office of the Assistant Secretary for Public and Indian Housing, HUD.

ACTION: Announcement of funding awards.

SUMMARY: In accordance with section 102(a)(4)(C) of the Department of Housing and Urban Development Reform Act of 1989, this document notifies the public of funding awards for Fiscal Year 1999 for the Community Development Block Grant (CDBG) Program for Indian Tribes and Alaska Native Villages. The purpose of this Notice is to publish the names and addresses of the award winners and the amount of the awards made available by HUD to provide assistance to the Indian Tribes and Alaska Native Villages.

FOR FURTHER INFORMATION CONTACT: Robert Barth, Office of Native American Programs, Office of Public and Indian Housing, Department of Housing and Urban Development, P.O. Box 36003, 450 Golden Gate Avenue, San Francisco, CA 94102; telephone (415) 436-8122 (this is not a toll-free number). Hearing or speech-impaired individuals may access this number via TTY by calling the toll-free Federal Information Relay Service at 1-800-877-8339.

SUPPLEMENTARY INFORMATION: The CDBG Program for Indian Tribes and Alaska Native Villages is authorized by Title I, Housing and Community Development Act of 1974, as amended (42 U.S.C. 5301 et seq.); sec. 7(d) of the Department of Housing and Urban Development Act (42 U.S.C. 3535(d)); 24 CFR part 1003.

This Notice announces FY 1999 funding to be used to assist in the development of viable Indian and Alaska Native communities, including decent housing, a suitable living environment, and economic opportunities. The FY 1999 awards announced in this Notice were selected for funding consistent with the provisions in the Notice of Funding Availability (NOFA) published in the Federal Register on February 22, 1999 (64 FR 8692).

The Catalog of Federal Domestic Assistance number for the CDBG Program for Indian Tribes and Alaska Native Villages is 14.862.

In accordance with section 102(a)(4)(C) of the Department of Housing and Urban Development Reform Act of 1989 (103 Stat. 1987, 42 U.S.C. 3545), the Department is hereby publishing the names, addresses, and amounts of those awards as shown in Appendix A.

Dated: February 10, 2000.
Harold Lucas,
Assistant Secretary for Public and Indian Housing.

Appendix A.—Fiscal Year 1999 Indian Community Development Block Grant Recipients of Funding Decisions
Funding recipient | Amount approved
Eastern/Woodlands ONAP
Bad River Band of Lake Superior Tribe of Chippewa Indians, P.O. Box 39, Odanah, WI 54861 | $400,000
Bois Forte Reservation, P.O. Box 16, Nett Lake, MN 55772 | 400,000
Eastern Band of Cherokee Indians, P.O. Box 455, Cherokee, NC 28719 | 400,000
Fond du Lac Reservation, 1720 Big Lake Road, Cloquet, MN 55720 | 400,000
Forest County Potawatomi Community, P.O. Box 340, Crandon, WI 54520 | 350,000
Grand Portage Reservation Tribal Council, P.O. Box 428, Grand Portage, MN 55605 | 400,000
Grand Traverse Band of Ottawa and Chippewa Indians, 2605 North West Bayshore Drive, Suttons Bay, MI 49682 | 400,000
Lac Courte Oreilles Tribal Governing Board, 13394 West Trepania Road, Hayward, WI 54843 | 182,527
Leech Lake Reservation Tribal Council, 6530 Hwy 2 N W, Cass Lake, MN 56633 | 400,000
Penobscot Indian Nation, 6 River Road, Indian Island, Old Town, ME 04468 | 400,000
Poarch Band of Creek Indians, 5811 Jack Springs Road, Atmore, AL 36502 | 400,000
Red Cliff Band of Lake Superior Chippewa, P.O. Box 529, Bayfield, WI 54814 | 400,000
St Regis Mohawk Tribe, RR 1 Box 8A, Hogansburg, NY 13655 | 200,000
Upper Sioux Community, P.O. Box 147, Granite Falls, MN 56241 | 113,500
White Earth Reservation Tribal Council, P.O. Box 418, White Earth, MN 56591 | 400,000
Southern Plains ONAP
Apache Tribe of Oklahoma, P.O. Box 1220, Anadarko, OK 73005 | 750,000
Cheyenne-Arapaho Tribes, P.O. Box 38, Red Moon Circle, Concho, OK 73022 | 738,197
Chickasaw Nation, P.O. Box 1548, Ada, OK 74821 | 750,000
Chitimacha Tribe of Louisiana, P.O. Box 661, Charenton, LA 70523 | 702,548
Choctaw Nation of Oklahoma, Drawer 1210, Durant, OK 74702, | 750,000
Citizen Potawatomi Nation, 1601 S. Gordon Cooper Drive, Shawnee, OK 74801 | 750,000
Coushatta Tribe of Louisiana, P.O. Box 818, Elton, LA 70532 | 607,500
Eastern Shawnee Tribe of Oklahoma, P.O. Box 350, Seneca, MO 64865 | 588,966
Iowa Tribe of Kansas and Nebraska, RR1, Box 58A, White Cloud, KS 66094 | 75,000
Iowa Tribe of Oklahoma, RR 1 Box 721 Perkins, OK 74059 | 521,200
Jena Band of Choctaw Indians, P.O. Box 14, Jena, LA 71342 | 616,904
Kaw Nation, Drawer 50, Kaw City, OK 74641 | 750,000
Osage Nation of Oklahoma, 1333 Grandview, Pawhuska, OK 74056 | 141,500
Otoe-Missouria Tribe of Oklahoma, 8151 Highway 177, Red Rock, OK 74651-0348 | 750,000
Pawnee Nation of Oklahoma, P.O. Box 470, Pawnee, OK 74058 | 750,000
Seminole Nation, P.O. Box 1498, Wewoka, OK 74884 | 750,000
Seneca-Cayuga Tribe of Oklahoma, P.O. Box 1238, Miami, OK 74355 | 750,000
Tunica-Biloxi Tribe of Louisiana, P.O. Box 1589, Marksville, LA 71351 | 675,346
United Keetoowah Band of Cherokee Indians, P.O. Box 746, Tahlequah, OK 74465-0746 | 750,000
Northern Plains ONAP
Blackfeet Indian Tribe, P.O. Box 850, Browning, MT 59417 | 500,000
Eastern Shoshone Tribe, P.O. Box 538, Fort Washakie, WY 82514 | 800,000
Fort Belknap Indian Community, RR1, Box 66, Harlem, MT 59526 | 800,000
Three Affiliated Tribes of the Fort Berthold, Reservation, HC 3, Box 2, New Town, ND 58763 | 800,000
Assiniboine and Sioux Tribes of the Fort Peck Reservation, P.O. Box 1027, Poplar, MT 59255 | 537,500
Lower Brule Sioux Tribe, P.O. Box 187, Lower Brule, SD 57548 | 800,000
Northwest Band of Shoshoni, 695 South Main, Brigham City, UT 84032 | 800,000
Northern Arapaho Tribe, P.O. Box 538, Fort Washakie, WY 82514 | 745,484
Paiute Tribe of Utah, 440 North Paiute Drive, Cedar City, UT 84720 | 306,454
Ponca Tribe of Nebraska, 2602 J Street, Omaha, NE 68107 | 220,800
Rosebud Sioux Tribe, P.O. Box 430, Rosebud, SD 57570 | 800,000
Salish & Kootenai Tribes, P.O. Box 278, Pablo, MT 59855 | 743,248
Sisseton-Wahpeton Sioux Tribe, P.O. Box 509, Agency Village, SD 57262 | 617,919
Turtle Mountain Band of Chippewa, P.O. Box 900, Belcourt, ND 58316 | 400,000
Ute Mountain Ute Tribe, P.O. Box 248, Towaoc, CO 81334 | 800,000
Yankton Sioux Tribe, P.O. Box 248, Marty, SD 57361 | 800,000
Southwest ONAP
Chemehuevi Indian Tribe, PO Box 1976, Havasu Lake, CA 92363 | 550,000
Chicken Ranch Rancheria, PO Box 1159, Jamestown, CA 95327 | 550,000
Cold Springs Rancheria, PO Box 209, Tollhouse, CA 93667 | 495,000
Colusa Rancheria, 50 Wintun Road, Ste D, Colusa, CA 95932 | 550,000
Coyote Valley Rancheria, PO Box 39, Redwood Valley, CA 95470 | 550,000
Enterprise Rancheria, 2950 Feather River Blvd., Oroville, CA 95965 | 477,900
Ft. McDermitt Indian Tribe, PO Box 457, McDermitt, NV 89421 | 550,000
Ft. Bidwell Indian Tribe, PO Box 129, Ft. Bidwell, CA 96112 | 550,000
Ft. Mojave Indian Tribe, 500 Merriman Avenue, Needles, CA 92363 | 550,000
Havasupai Indian Tribe, PO Box 10, Supai, AZ 86435 | 219,108
Hopland Band of Pomo Indians, PO Box 610, Hopland, CA 95449-0610 | 550,000
Hualapai Indian Tribe, PO Box 179, Peach Springs, AZ 86434 | 750,000
Jackson Rancheria, PO Box 1090, Jackson, CA 95642 | 550,000
Los Coyotes Band of Mission Indians, PO Box 189, Warner Springs, CA 92086 | 550,000
Lovelock Paiute Tribe, PO Box 878, Lovelock, NV 89419 | 508,406
Manchester/Point Arena Rancheria, PO Box 623, Point Arena, CA 95468 | 548,735
Mesa Grande Band of Mission Indians, PO Box 267, Santa Ysabel, CA 92070 | 450,310
Mescalero Apache Tribe, PO Box 176, Mescalero, NM 88340 | 750,000
Navajo Nation, PO Box 9000, Window Rock, AZ 86515 | 5,000,000
Pascua Yaqui Indian Tribe, 7474 S. Camino de Oeste, Tucson, AZ 85746-9098 | 828,540
Pauma Band of Mission Indians, PO Box 369, Pauma Valley, CA 92061 | 550,000
Pueblo of Isleta, PO Box 1270, Isleta, NM 87022 | 750,000
Pueblo of Jemez, PO Box 100, Jemez Pueblo, NM 87024 | 742,680
Pueblo of Pojoaque, Route 11, Box 71, Santa Fe, NM 87501 | 550,000
Pueblo of Tesuque, Route 5, Box 360-T, Santa Fe, NM 87501 | 361,098
Pueblo of Zuni, PO Box 339, Zuni, NM 87327 | 1,999,994
Redding Rancheria, 2000 Rancheria Road, Redding, CA 96001 | 550,000
Redwood Valley Rancheria, 3250 Road I, Redwood Valley, CA 95470 | 529,556
Salt River Pima-Maricopa Ind. Com.,10005 E. Osborn Rd, Scottsdale, AZ 85256 | 2,000,000
San Pasqual Indian Reservation, PO Box 365, Valley Center, CA 92082-0365 | 550,000
Smith River Rancheria, 250 N Indian Rd., Smith River, CA 95567-9525 | 169,030
Susanville Rancheria, PO Drawer U, Susanville, CA 96130 | 544,600
Tule River Indian Reservation, PO Box 589, Porterville, CA 93258 | 539,000
Tuolumne Band of Me-Wuk Indians, PO Box 699, Tuolumne, CA 95379 | 550,000
Washoe Tribe, 919 Hwy 395 South, Gardnerville, NV 89410 | 550,000
Yomba Shoshone Tribe, HC 61 Box 6275, Austin, NV 89310-9301 | 550,000
Northwest ONAP
Confederated Tribes of the Chehalis Reservation, 420 Howanut, Oakville, WA 98568 | 172,673
Confederated Tribes of the Coos, Lower Umpqua and Siuslaw Indians, 33 Wallace Ave., Coos Bay, OR 97420 | 335,000
Coquille Tribe, P. O. Box 1435, Coos Bay, OR 97420 | 335,000
Jamestown S'Klallam Tribe, 1033 Old Blyn Highway, Sequim, WA 98382 | 254,196
Kalispel Tribe, P. O. Box 39, Usk, WA 99180 | 335,000
Lummi Tribe, 2828 Kwina Road, Bellingham, WA 98226 | 290,442
Nez Perce Tribe of Idaho, P. O. Box 365, Lapwai, ID 83540 | 335,000
Port Gamble S'Klallam Tribe, 31912 Little Boston Road, Kingston, WA 98346-0155 | 335,000
Samish Indian Nation, P. O. Box 217, Anacortes, WA 98221 | 270,540
Shoalwater Bay Tribe, P. O. Box 130, Tokeland, WA 98590 | 335,000
Squaxin Island Tribe, S. E. 70 Squaxin Lane, Shelton, WA 98584 | 335,000
Suquamish Tribe, P. O. Box 498, Suquamish, WA 98392 | 333,000
Tulalip Tribes, 6700 Totem Beach Road, Marysville, WA 98721 | 335,000

[FR Doc. 00-3603 Filed 2-15-00; 8:45 am]

BILLING CODE 4210-33-P